DEPARTMENT OF TRANSPORTATION

Federal Highway Administration

Environmental Impact Statement; Yellowstone and Carbon Counties, Montana

AGENCY: Federal Highway Administration (FHWA), DOT.

ACTION: Notice of intent.

SUMMARY: The FHWA hereby gives notice that it intends to prepare an environmental impact statement (EIS) for the proposed reconstruction of US 212 between Rockvale and Laurel in Yellowstone and Carbon County, Montana.

FOR FURTHER INFORMATION CONTACT: Dale Paulson, Program Development Engineer, Federal Highway Administration, 2880 Skyway Drive, Helena, MT 59602; Telephone: (406) 449-5303 ext. 239; or Joel Marshik, P.E., Environmental Services and Tribal Liaison Manager, Montana Department of Transportation, PO Box 201001, 2701 Prospect Avenue, Helena, MT 59602-1001; Telephone: (406) 444-7632.

SUPPLEMENTARY INFORMATION:

Electronic Access

An electronic copy of this document may be downloaded using a modem and suitable communications software from the Government Printing Office's Electronic Bulletin Board Service at (202) 512-1661. Internet users may reach the Office of the Federal Register's home page at: http://www.nara.gov/fedreg and the Government Printing Office's database at: http://www.access.gpo.gov/nara.

Background

The FHWA in cooperation with the Montana Department of Transportation (MDT), will prepare an EIS to determine the appropriate location, design and alternatives for the proposed future reconstruction of US 212 from Rockvale, Montana [Reference, or “Mile” Post (RP) 42.640±] to just south of Laurel, Montana (RP 53.841±). The EIS will examine the short and long-term impacts on the natural, physical, and human environments. The impact assessment will include, but not be limited to, impacts on wetlands, wildlife, and fisheries; social environment; changes in land use; aesthetics; changes in traffic; and economic impacts. Title VI of the Civil Rights Act (42 U.S.C. 2000d) and Environmental Justice (as outlined in Executive Order 12898) will also be addressed as part of the impact assessment. The EIS will also examine measures to mitigate significant adverse impacts resulting from the proposed action.

Comments are being solicited from appropriate Federal, State, and local agencies and from private organizations and citizens who have interest in this proposal. Public information meetings will be held in the project area to discuss the potential alternatives. A draft of the EIS will be available for public and agency review, and a public hearing will be held to receive comments. Public notice will be given of the time and place of all meetings and hearings.

Comments and/or suggestions from all interested parties are requested to ensure that the full range of all issues and significant environmental issues, in particular, are identified and reviewed. Comments or questions concerning this proposed action and/or its EIS should be directed to the FHWA or the Montana Department of Transportation (MDT) at the addresses listed previously.

(Catalog of Federal Domestic Assistance Program Number 20.205, Highway Planning and Construction. The regulations implementing Executive Order 12372 regarding intergovernmental consultation on Federal programs and activities apply to this proposed action.)

Authority: 23 U.S.C. 315; 49 CFR 1.48.

Issued on: July 10, 2000.
Dale Paulson,
Program Development Engineer, FHWA.

[FR Doc. 00-17840 Filed 7-13-00; 8:45 am]

BILLING CODE 4910-22-M